DEPARTMENT OF HEALTH AND HUMAN SERVICES

National Institutes of Health

Center for Scientific Review; Amended Notice of Meeting

Notice is hereby given of a change in the meeting of the Urologic and Genitourinary Physiology and Pathology, October 25, 2013, 08:00 a.m. to October 25, 2013, 05:00 p.m., National Institutes of Health, 6701 Rockledge Drive, Bethesda, MD 20892 which was published in the Federal Register on October 01, 2013, 78 FR 190 Pgs. 60296-60297.

The meeting will start on December 6, 2013 at 8:00 a.m. and end on December 6, 2013 at 5:00 p.m. The meeting location remains the same. The meeting is closed to the public.

Dated: November 12, 2013.
Carolyn A. Baum,
Program Analyst, Office of Federal Advisory Committee Policy.

[FR Doc. 2013-27357 Filed 11-14-13; 8:45 am]

BILLING CODE 4140-01-P